DEPARTMENT OF AGRICULTURE

Forest Service

Availability of an Environmental Assessment for an Amendment to the Fishlake National Forest Land and Resource Management Plan To Change the Forage Utilization Standards

AGENCY: Forest Service, Agriculture.

ACTION: Notice of availability of an environmental assessment.

SUMMARY: The Fishlake National Forest proposes to amend the Forest Plan forage utilization guidelines. Supervisor Guy Pence (Responsible Official) has mad available copies of the Environmental Assessment for the Proposed Amendment to the Fishlake National Forest Land and Resource Management Plan. This amendment changes the forage utilization guidelines for riparian vegetation from percent of available forage utilized to residual stubble height. The amendment also modifies the use levels in upland areas. The Environmental Assessment is available for 30-day public review and comment. The notice and comment period is expected to end on June 1, 2001. This notice is required pursuant to National Forest System Land and Resource Management Planning regulations (36 CFR 219.35(b)).

DATES: In February of 1998, the Fishlake National Forest initiated scoping for a proposal to revise allotment management plans and to amend the Fishlake National Forest Land and Resource Management Plan. In October of 2000, the Fishlake National Forest Supervisor decided to separate the documentation and analysis for he forest plan amendment. A new scoping notice was sent to the public on February 21, 2001. The Environmental Assessment is available for public comment beginning May 2, 2001. Comments will be accepted through June 1, 2001. A decision is expected in June of 2001.

ADDRESSES: Comments on the environmental assessment can be submitted to the Forest Supervisor at: Forest Supervisor, Fishlake National Forest, 115 East 900 North St., Richfield, Ut 84701.

FOR FURTHER INFORMATION CONTACT: David Grider, Range Specialist, at 435-865-3700 or Responsible Official: Guy Pence, Acting Forest Supervisor, 115 East 900 North St., Richfield, UT 84701.

SUPPLEMENTARY INFORMATION: New guidelines are being proposed because scientific research indicates that residual stubble height offers a more accurate and more efficient measure of forage utilization. This is a non-significant amendment.

Dated: April 16, 2001.
Guy W. Pence,
Acting Forest Supervisor, Fishlake National Forest.

[FR Doc. 01-11041 Filed 5-2-01; 8:45 am]

BILLING CODE 3410-11-M